FEDERAL TRADE COMMISSION

16 CFR Chapter I

Semiannual Regulatory Agenda; Withdrawal

AGENCY: Federal Trade Commission.

ACTION: Proposed rule; Withdrawal.

SUMMARY: The Federal Trade Commission (FTC or Commission) is withdrawing the proposed rule titled, “Semiannual Regulatory Agenda,” published on May 7, 2020. This agenda will be incorporated in the upcoming government-wide Unified Agenda of Federal Regulatory and Deregulatory Actions.

DATES: The FTC is withdrawing the proposed rule published May 7, 2020 (85 FR 27191) as of May 15, 2020.

ADDRESSES: Federal Trade Commission, 600 Pennsylvania Avenue NW, Washington, DC 20580.

FOR FURTHER INFORMATION CONTACT: G. Richard Gold, Attorney, Federal Trade Commission, 600 Pennsylvania Avenue NW, Washington, DC 20580; telephone number: (202) 326-3355; email address: rgold@ftc.gov.

SUPPLEMENTARY INFORMATION: None.

Dated: May 8, 2020.
April J. Tabor,
Acting Secretary.

[FR Doc. 2020-10301 Filed 5-14-20; 8:45 am]

BILLING CODE 6750-01-P